DEPARTMENT OF AGRICULTURE

Forest Service

Prince William Sound Resource Advisory Committee; Meeting

AGENCY: Forest Service, USDA.

ACTION: Notice of meeting.

SUMMARY: The Prince William Sound Resource Advisory Committee will convene for their first formal meeting in Anchorage, Alaska, for the purpose of establishing the Committee through the development of bylaws, a chairperson, and a future meeting schedule, under the provisions of Title II of the Secure Rural Schools and Community Self-Determination Act of 2008 (Pub. L. 110-343).

DATES: The meeting will be held on Monday, July 26, 2010.

ADDRESSES: The meeting will take place at the Chugach National Forest Supervisor's Office, 3301 “C” Street; Suite 300, Anchorage, Alaska 99503. Send written comments to Prince William Sound Resource Advisory Committee, c/o USDA Forest Service, PO Box 280, Cordova, AK 99574 or electronically to nobrien@fs.fed.us.

FOR FURTHER INFORMATION CONTACT: Teresa Benson, Designated Federal Official, c/o USDA Forest Service, PO Box 280, Cordova, AK 99574, telephone (907) 424-4742.

SUPPLEMENTARY INFORMATION: The agenda will include background on the provisions of Title II of the Secure Rural Schools and Community Self-Determination Act of 2008 (Pub. L. 110-343) and an overview of the Federal Advisory Committee Act (FACA). In addition, the agenda will include time for the Committee to develop and adopt bylaws, a chairperson, and a future meeting schedule to discuss project proposals. All Resource Advisory Committee Meetings are open to the public. The public input and comment forum will take place in the afternoon of July 26, 2010. Interested citizens are encouraged to attend.

Date: July 2, 2010.
Teresa M. Benson,
District Ranger.

[FR Doc. 2010-16781 Filed 7-12-10; 8:45 am]

BILLING CODE 3410-11-P